DEPARTMENT OF ENERGY

Federal Energy Regulatory Commission

[Docket No. EC01-54-000]

Wisconsin Public Service Corporation, American Transmission Company, LLC; Notice of Filing

January 23, 2001.

Take notice that on January 10, 2001, Wisconsin Public Service Corporation (WPSC) and American Transmission Company LLC (ATCLLC) filed an application under Section 203 of the Federal Power Act for authorization and approval for WPSC to transfer by assignment to the ATCLLC rights in transmission facility lease agreements WPSC has with Marshfield Electric and Water Department and Manitowoc Public Utilities.

A copy of the filing has been served on the Public Service Commissions of Michigan and Wisconsin.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before February 2, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-222 for assistance). Comments and protests may be filed electronically via the internet in lieu of paper. See, 18 CFR 385.2001(a)(1)(iii) and the instructions on the Commission's web side at ­http://www.ferc.fed.us/efi/doorbell.htm.

David P. Boergers,
Secretary.

[FR Doc. 01-2430 Filed 1-26-01; 8:45 am]

BILLING CODE 6717-01-M